COMMISSION ON CIVIL RIGHTS

Agenda and Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA) that an orientation and planning meeting of the Connecticut Advisory Committee to the Commission will convene at 12:00 p.m. (EDT) on Wednesday, August 10, 2016, at the ACLU, 330 Main Street, Hartford, CT 06106. The purpose of the orientation meeting is to inform the newly appointed Committee members about the rules of operation of federal advisory committees and to select additional officers, as determined by the Committee. The purpose of the planning meeting is to discuss potential topics that the Committee may wish to study.

Persons who plan to attend the meeting and who require other accommodations, please contact Evelyn Bohor at ebohor@usccr.gov at the Rocky Mountain Regional Office at least ten (10) working days before the scheduled date of the meeting.

Members of the public are invited to submit written comments; the comments must be received in the regional office by Monday, September 12, 2016. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

The activities of this advisory committee, including records and documents discussed during the meeting, will be available for public viewing, as they become available at:

https://database.faca.gov/committee/meetings.aspx?cid=239. Records generated from this meeting may also be inspected and reproduced at the Eastern Regional Office, as they become available, both before and after the meeting. Persons interested in the work of this advisory committee are advised to go to the Commission's Web site, www.usccr.gov, or to contact the Eastern Regional Office at the above phone number, email or street address.

AGENDA:

Orientation and Administrative Matters

Barbara de La Viez, Deputy Director, Eastern Regional Office and Designated Federal Official

Discussion of Potential Civil Rights topics

David J. McGuire, Chair

Discussion of Potential Topics of Study

CT State Advisory Committee

DATES: Wednesday, August 10, 2016, at 12:00 p.m. (EDT).

ADDRESSES: 330 Main Street, Hartford, CT 06106.

FOR FURTHER INFORMATION CONTACT: Ivy L. Davis at ero@usccr.gov, or 202-376-7533.

EXCEPTIONAL CIRCUMSTANCE: Pursuant to 41 CFR 102-3.150, the notice for this meeting is given less than 15 calendar days prior to the meeting because of the exceptional circumstances of an administrative exceptional circumstance. Given the exceptional urgency of the events, the agency and advisory committee deem it important for the advisory committee to meet on the date given.

Dated: July 27, 2016.
David Mussatt,
Chief, Regional Programs Unit.

[FR Doc. 2016-18160 Filed 8-1-16; 8:45 am]

BILLING CODE 6335-01-P